FEDERAL COMMUNICATIONS COMMISSION

47 CFR Part 9

[PS Docket Nos. 21-479, 18-64; FCC 24-78; FR ID 250243]

Facilitating Implementation of Next Generation 911 Services (NG911); Location-Based Routing for Wireless 911 Calls; Correction

AGENCY: Federal Communications Commission.

ACTION: Final rule; correction.

SUMMARY: This document corrects an error by deleting an incorrect sentence in the Final Regulatory Flexibility Analysis section of a final rule that appeared in the Federal Register on September 24, 2024, regarding the implementation of Next Generation 911.

DATES: This correction is effective October 17, 2024.

FOR FURTHER INFORMATION CONTACT: For further information, contact John Evanoff of the Public Safety and Homeland Security Bureau, Policy and Licensing Division, at John.Evanoff@fcc.gov or 202-418-0848.

SUPPLEMENTARY INFORMATION: The Federal Communications Commission (the Commission) is correcting an error in the Facilitating Implementation of Next Generation 911 Services (NG911); Location-Based Routing for Wireless 911 Calls; Report and Order, published as a final rule in the Federal Register on September 24, 2024, at 89 FR 78066. In the Final Regulatory Flexibility Analysis, an incorrect sentence was inadvertently included that created an inconsistency with the rest of the document. The Commission released a Second Erratum on October 1, 2024 that deleted the corresponding incorrect sentence in the Report and Order.

Correction

In FR Doc. No. 2024-18603, in the Federal Register of September 24, 2024, on page 78118, in the first and second column, the following sentence is removed:

“For all OSPs, the initial compliance date will be extended based on the effective date of the rules—i.e. no OSP must comply with a 911 Authority Phase 1 request sooner than one year after the effective date of these rules, regardless of the timing of the 911 Authority's request.”.

Federal Communications Commission.
Debra Jordan,
Chief, Public Safety and Homeland Security Bureau.

[FR Doc. 2024-23894 Filed 10-16-24; 8:45 am]

BILLING CODE 6712-01-P